NATIONAL AERONAUTICS AND SPACE ADMINISTRATION

[Notice: 16-050]

NASA Advisory Council; Technology, Innovation and Engineering Committee; Meeting

AGENCY: National Aeronautics and Space Administration.

ACTION: Notice of meeting.

SUMMARY: In accordance with the Federal Advisory Committee Act, Public Law 92-463, as amended, the National Aeronautics and Space Administration (NASA) announces a meeting of the Technology, Innovation and Engineering (TI&E) Committee of the NASA Advisory Council (NAC). This Committee reports to the NAC.

DATES: Tuesday, July 26, 2016, 8:00 a.m.-12:15 p.m.; and 3:30 p.m.-5:00 p.m., Local Time.

ADDRESSES: Ohio Aerospace Institute, Board Room (Second Floor), 22800 Cedar Point Rd, Cleveland, Ohio 44142.

FOR FURTHER INFORMATION CONTACT: Mr. Mike Green, Executive Secretary for the NAC TI&E Committee, Space Technology Mission Directorate, NASA Headquarters, Washington, DC 20546, (202) 358-4710, or g.m.green@nasa.gov.

SUPPLEMENTARY INFORMATION: The meeting will be open to the public up to the capacity of the room. This meeting is also available telephonically and by WebEx. You must use a touch-tone phone to participate in this meeting. Any person interested in joining the meeting may call the USA toll-free conference number 1-844-467-6272, passcode 102421 followed by the # sign. If dialing in, please “mute” your telephone. The WebEx link is https://nasa.webex.com/, the meeting number is 998 519 793, and the password is “Technology16$” (case sensitive).

The agenda for the meeting includes the following topics:

—Welcome to NASA Glenn Research Center and Remarks

—Space Technology Mission Directorate Update

—Nuclear Propulsion and Power Overview

—SpaceX Red Dragon Partnership Overview

—Chief Technologist Update

Attendees will be required to sign a register. It is imperative that this meeting be held on this date to accommodate the scheduling priorities of the key participants.

Patricia D. Rausch,
Advisory Committee Management Officer, National Aeronautics and Space Administration.

[FR Doc. 2016-16185 Filed 7-7-16; 8:45 am]

BILLING CODE 7510-13-P